DEPARTMENT OF TRANSPORTATION

Federal Aviation Administration

14 CFR Part 39

[Docket No. FAA-2019-0537; Project Identifier 2019-NE-16-AD; Amendment 39-21116; AD 2020-09-02]

RIN 2120-AA64

Airworthiness Directives; Anjou Aeronautique Torso Restraint Systems

AGENCY: Federal Aviation Administration (FAA), DOT.

ACTION: Final rule.

SUMMARY: The FAA is superseding Airworthiness Directive (AD) 2017-16-04 for certain Anjou Aeronautique (formerly Romtex Anjou Aeronautique) Model 358 torso restraint systems (restraint systems). AD 2017-16-04 required inspection of the restraint system, placarding if it is found to be inoperative, and replacement of the affected restraint system with a part eligible for installation. This AD requires the removal from service of this expanded population of affected restraint systems and modifies the compliance schedule for their removal. This AD was prompted by reports to the European Union Aviation Safety Agency (EASA), since the publication of AD 2017-16-04, of additional restraint system buckle knobs breaking on a batch of parts outside of the population identified in AD 2017-16-04. The FAA is issuing this AD to address the unsafe condition on these products.

DATES: This AD is effective May 29, 2020.

The Director of the Federal Register approved the incorporation by reference of a certain publication listed in this AD as of September 22, 2017 (82 FR 39355, August 18, 2017).

ADDRESSES: For service information identified in this final rule, contact Anjou Aeronautique, Strada Livezii nr. 98, 550042, Sibiu, Romania; telephone: +40 269 243 918; fax: +40 269 243 921; email: seatbelts@anjouaero.com. You may view this service information at the FAA, Airworthiness Products Section, Operational Safety Branch, 1200 District Avenue, Burlington, MA 01803. For information on the availability of this material at the FAA, call 781-238-7759. It is also available on the internet at https://www.regulations.gov by searching for and locating Docket No. FAA-2019-0537.

Examining the AD Docket

You may examine the AD docket on the internet at https://www.regulations.gov by searching for and locating Docket No. FAA-2019-0537; or in person at Docket Operations between 9 a.m. and 5 p.m., Monday through Friday, except Federal holidays. The AD docket contains this AD, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Dorie Resnik, Aerospace Engineer, Boston ACO Branch, FAA, 1200 District Avenue, Burlington, MA 01803; phone: 781-238-7693; fax: 781-238-7199; email: dorie.resnik@faa.gov.

SUPPLEMENTARY INFORMATION:

Discussion

The FAA issued a notice of proposed rulemaking (NPRM) to amend 14 CFR part 39 to supersede AD 2017-16-04, Amendment 39-18981 (82 FR 39355, August 18, 2017), (“AD 2017-16-04”). AD 2017-16-04 applied to certain Anjou Aeronautique (formerly Romtex Anjou Aeronautique) Model 358 restraint systems. The NPRM published in the Federal Register on December 31, 2019 (84 FR 72257). The NPRM was prompted by reports to the European Union Aviation Safety Agency (EASA) of additional restraint system buckle knobs, since the publication of AD 2017-16-04, breaking on a batch of parts outside of the population identified in AD 2017-16-04. The NPRM proposed to require the removal from service of this expanded population of affected restraint systems and modifies the compliance schedule for their removal. The FAA is issuing this AD to address the unsafe condition on these products.

The European Union Aviation Safety Agency (EASA), which is the Technical Agent for the Member States of the European Community, has issued EASA AD 2018-0195, dated September 4, 2018 (referred to after this as “the MCAI”), to address the unsafe condition on these products. The MCAI states:

Occurrences have been reported of rupture of the upper side (knob) of the rotary buckle installed on certain Anjou Aeronautique model 358 torso restraint systems. Further occurrences have been reported after the publication of EASA PAD 18-019. Preliminary investigation identified a batch of parts potentially affected by the same unsafe condition, for which high operating temperatures might be a contributing factor.

This condition, if not corrected, could prevent the release of the restraint system straps as intended in the event of an emergency landing, possibly inhibiting safe evacuation from the aircraft. As of the issue date of this [EASA] AD, Anjou Aeronautique has not issued applicable repair or modification instructions.

For the reasons described above, this [EASA] AD requires replacement of affected torso restraint systems, and prohibits installation thereof.

You may obtain further information by examining the MCAI in the AD docket on the internet at https://www.regulations.gov by searching for and locating Docket No. FAA-2019-0537.

Comments

The FAA gave the public the opportunity to participate in developing this AD. The following presents the comments received on the NPRM and the FAA's response to each comment.

Miscellaneous Comment

An individual commenter provided a comment not relevant to this AD. The FAA did not change this AD.

Revision to Cost Estimate

The FAA determined the need to clarify the estimated cost in AD 2017-16-04. The cost reflected in AD 2017-16-04 was the total cost per helicopter ($6,000 per restraint system multiplied by 7 seats per helicopter totaling $42,000). In this AD, the FAA is providing the cost estimate per restraint system.

Conclusion

The FAA reviewed the relevant data and determined that air safety and the public interest require adopting this AD as proposed.

Related Service Information Under 1 CFR Part 51

The FAA reviewed Anjou Aero Service Bulletin (SB) No. 358SB-14-101, Revision 1, dated December 12, 2014. The SB describes procedures for removing from service and replacing the rotary buckle sub-assembly on certain part-numbered and serial-numbered buckle assemblies, consisting of the rotary buckle, belt, and attachment. This service information is reasonably available because the interested parties have access to it through their normal course of business or by the means identified in the ADDRESSES section.

Costs of Compliance

The FAA estimates that this AD affects an unknown number of restraint systems installed on, but not limited to, Airbus Helicopters AS350B2, AS350B3, EC130B4, EC130T2, and AS355NP helicopters of U.S. registry.

The FAA estimates the following costs to comply with this AD:

Estimated Costs
Action | Labor cost | Parts cost | Cost per product
Inspect restraint system | 0.5 work-hours × $85 per hour = $42.50 | $0 | $42.50
Remove and replace restraint system | 0.5 work-hours × $85 per hour = $42.50 | 6,000 | 6,042.50

The FAA estimates the following costs to do any necessary placarding that would be required based on the results of the proposed inspection. The FAA has no way of determining the number of aircraft that might need this placarding:

On-Condition Costs
Action | Labor cost | Parts cost | Cost per product
Placard seat as inoperable | 0.1 work-hour × $85 per hour = $8.50 | $0 | $8.50

According to the manufacturer, some of the costs of this AD may be covered under warranty, thereby reducing the cost impact on affected individuals. The FAA does not control warranty coverage for affected individuals. As a result, the FAA has included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-16-04, Amendment 39-18981 (82 FR 39355, August 18, 2017), and adding the following new AD:

2020-09-02 Anjou Aeronautique (formerly Romtex Anjou Aeronautique): Amendment 39-21116; Docket No. FAA-2019-0537; Project Identifier 2019-NE-16-AD.

(a) Effective Date

This AD is effective May 29, 2020.

(b) Affected ADs

This AD replaces AD 2017-16-04, Amendment 39-18981 (82 FR 39355, August 18, 2017).

(c) Applicability

(1) This AD applies to Anjou Aeronautique Model 358 torso restraint systems (restraint systems), part number (P/N) 358XX-XXX-YY-ZZZ (where 358XX-XXX-YY-ZZZ can be any combination of numbers and/or letters), with serial numbers (S/Ns) listed in Effectivity, paragraph 1.2, of Anjou Aero Service Bulletin (SB) No. 358SB-14-101, Revision 1, dated December 12, 2014, and with S/Ns listed in Figure 1 to Paragraph (c)(1) of this AD.

(2) These restraint systems are installed on, but not limited to, Airbus Helicopters AS350B2, AS350B3, EC130B4, EC130T2, and AS355NP helicopters, certificated in any category.

(d) Subject

Joint Aircraft System Component (JASC) Code 2500, Cabin Equipment/Furnishings.

(e) Unsafe Condition

This AD was prompted by reports to the European Union Aviation Safety Agency (EASA), since the publication of AD 2017-16-04, of additional restraint system buckle knobs breaking on a batch of parts outside of the population identified in AD 2017-16-04. The FAA is issuing this AD to prevent a restraint system strap from failing to release from the buckle, causing occupants to be unable to exit the aircraft during an emergency. The unsafe condition, if not addressed, could result in a restraint system strap failing to release from the buckle, resulting in injury or death of the occupant.

(f) Compliance

Comply with this AD within the compliance times specified, unless already done.

(g) Required Actions

(1) For the restraint systems listed in the Effectivity, paragraph 1.2, of Anjou Aero SB No. 358SB-14-101, Revision 1, dated December 12, 2014, except for S/Ns 1038-1048 (inclusive), 1050-1055 (inclusive), and 1062-1073 (inclusive), within 30 hours time-in-service (TIS) after the effective date of this AD, inspect each restraint system for proper release of the straps from the restraint system.

(i) If the straps do not release from the restraint system, before further flight, placard the seat as inoperative. Within 180 hours TIS after the effective date of this AD, remove the rotary buckle sub-assembly and replace it with a part eligible for installation.

(ii) If the straps release from the restraint system, within 180 hours TIS after the effective date of this AD, remove the rotary buckle sub-assembly and replace it with a part eligible for installation.

(2) For restraint systems, P/N 358XX-XXX-YY-ZZZ (where 358XX-XXX-YY-ZZZ can be any combination of numbers and/or letters), having S/Ns 738-1619 (inclusive), within 30 hours TIS after the effective date of this AD, inspect the restraint system for proper release of the straps from the restraint system.

(i) If the straps do not release from the restraint system, before further flight, placard the seat as inoperative and within 180 hours TIS after the effective date of this AD, remove the restraint system from service and replace it with a part eligible for installation.

(ii) If the straps release from the restraint system, within 180 hours TIS or six months after the effective date of this AD, whichever occurs first, remove the restraint system from service and replace it with a part eligible for installation.

(h) Installation Prohibition

After the effective date of this AD, do not install on any aircraft an Anjou Aeronautique restraint system, P/N 358XX-XXX-YY-ZZZ, having S/Ns 738-1619 (inclusive), even if the restraint system is labeled in compliance with Anjou Aero SB No. 358SB-14-101, Revision 1, dated December 12, 2014.

(i) Definition

For the purpose of this AD, a “part eligible for installation” is an Anjou Aeronautique restraint system, excluding P/N 358XX-XXX-YY-ZZZ, having S/Ns 738-1619 (inclusive), that had the rotary buckle sub-system repaired and a label attached indicating compliance with Anjou Aero SB No. 358SB-14-101, Revision 1, dated December 12, 2014, or later revisions.

(j) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD.

(2) Before using any approved AMOC, notify your appropriate principal inspector, or lacking a principal inspector, the manager of the local flight standards district office/certificate holding district office.

(k) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Union Aviation Safety Agency (EASA) AD 2018-0195, dated September 4, 2018, for more information. You may examine the EASA AD in the AD docket on the internet at https://www.regulations.gov by searching for and locating Docket No. FAA-2019-0537.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 22, 2017 (82 FR 39355, August 18, 2017).

(i) Anjou Aero Service Bulletin No. 358SB-14-101, Revision 1, dated December 12, 2014.

(ii) [Reserved]

(4) For Anjou Aeronautique service information identified in this AD, contact Anjou Aeronautique, Strada Livezii nr. 98, 550042, Sibiu, Romania; telephone: +40 269 243 918; fax: +40 269 243 921; email: seatbelts@anjouaero.com.

(5) You may view this service information at FAA, Airworthiness Products Section, Operational Safety Branch, 1200 District Avenue, Burlington, MA 01803. For information on the availability of this material at the FAA, call 781-238-7759.

(6) You may view this service information at the National Archives and Records Administration (NARA). For information on the availability of this material at NARA, email: fedreg.legal@nara.gov, or go to: https://www.archives.gov/federal-register/cfr/ibr-locations.html.

Issued on April 20, 2020.
Lance T. Gant,
Director, Compliance & Airworthiness Division, Aircraft Certification Service.

[FR Doc. 2020-08706 Filed 4-23-20; 8:45 am]

BILLING CODE 4910-13-P